FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 23, 2017.

A. Federal Reserve Bank of St. Louis (David L. Hubbard, Senior Manager) P.O. Box 442, St. Louis, Missouri 63166-2034. Comments can also be sent electronically to Comments.applications@stls.frb.org:

1. Joseph C. Stewart III; Sheila M. Stewart; Joseph C. Stewart III and Sheila M. Stewart, Husband and Wife, as Tenants by the Entirety; the Joseph C. Stewart III Family Trust DTD 4/9/98, Troy J. Scheske, Trustee; Joseph C. Stewart III as custodian for and with voting power over shares owned by two minor children; the Joseph C. Stewart III Irrevocable Trust U/T Stewart Banking Trust DTD 10/11/98, Joseph C. Stewart III, Trustee; the Wendy C. Stewart Exempt Trust DTD 3/29/05, Judith A. Kite, Trustee; and the Wendy C. Stewart Irrevocable Trust U/T Stewart Banking Trust DTD 10/11/98, Charles A. Hapke and Wendy C. Stewart, Trustees, all of Sunset Hills, Missouri, as members of a family control group, to retain voting shares of BancStar, Inc., St. Louis, Missouri, and thereby retain shares of Bank Star, Pacific, Missouri.

Board of Governors of the Federal Reserve System, August 3, 2017.
Yao-Chin Chao,
Assistant Secretary of the Board.

[FR Doc. 2017-16712 Filed 8-8-17; 8:45 am]

BILLING CODE 6210-01-P